DEPARTMENT OF HEALTH AND HUMAN SERVICES

Centers for Disease Control and Prevention

[60Day-13-0912]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send written comments to Ron Otten, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Frame development for the long-term care component of the National Health Care Surveys (OMB No. 0920-0912, expired 1/31/2013)—Reinstatement without change—National Center for Health Statistics (NCHS), Centers for Disease Control and Prevention (CDC).

Background and Brief Description

Section 306 of the Public Health Service (PHS) Act (42 U.S.C. 242k), as amended, authorizes that the Secretary of Health and Human Services (DHHS), acting through NCHS, “shall collect statistics on health resources * * * [and] utilization of health care, including extended care facilities, and other institutions.”

NCHS seeks approval to collect data needed to develop up-to-date sampling frames of residential care facilities. The sampling frames will be used to draw nationally representative samples for two waves of the National Study of Long-Term Care Providers (NSLTCP). The frame-related data will be collected from representatives in state regulatory agencies in the 50 states and the District of Columbia primarily via telephone calls, emails, and in a few cases, via formal written requests. The frame information was first collected in 2012 (OMB No. 0920-0912, expired 1/31/2013). The data to be collected from these state officials include (1) confirming that we have identified the appropriate licensure categories of residential care facilities within each state that meet the NSLTCP definition and (2) for each relevant licensure category, requesting an electronic file of the licensed residential care facilities for which the agency is responsible if such files with the needed variables are not downloadable from the state's Web site.

The NSLTCP study definition of a residential care facility is one that is licensed, registered, listed, certified, or otherwise regulated by the state to provide room and board with at least two meals a day, provide around-the-clock on-site supervision, and help with activities of daily living (e.g., bathing, eating, or dressing) or health related services, such as medication supervision; serves primarily an adult population; and has at least four licensed, certified, or regulated beds. Facilities licensed to serve the mentally ill or the intellectually disabled/developmentally disabled populations exclusively are excluded. Nursing homes and skilled nursing facilities are also excluded, unless they have a unit or wing meeting the above definition and residents can be separately enumerated.

The electronic files we seek to obtain from the states should include the name, address, phone number, and Web site (if available) of the residential care facility; name, phone number, and email address (if available) of facility director; licensure category; chain affiliation; ownership type; and bed size. Data on individual facilities are confidential and a public-use file will not be produced.

Expected users of the findings from the frame data include, but are not limited to CDC's NCHS and its contractors; other Department of Health and Human Services (DHHS) agencies, such as the Office of the Assistant Secretary for Planning and Evaluation and the Agency for Healthcare Research and Quality; associations, such as Leading Age (formerly the American Association of Homes and Services for the Aging), National Center for Assisted Living, American Seniors Housing Association, and Assisted Living Federation of America; universities; foundations; and other private sector organizations.

Burden is estimated at approximately 2.5 hours per state each time the frame will be developed, including time to verify contact information, to respond to a semi-structured telephone protocol, and to develop the facility listing in an electronic format. Three year clearance is requested to cover two collections of frame information. The burden for the two collections is shown in Table 1 below. There is no cost to respondents other than their time to participate.

Table 1—Estimated Annualized Burden Table
Type of respondent | Form name | Number of respondents | Number of responses/ respondent | Average burden/ response (in hours) | Response burden (in hours)
State Government Representatives | Contact info verification | 34 | 1 | 5/60 | 3
State Government Representatives | Telephone protocol | 34 | 1 | 30/60 | 17
State Government Representatives | Electronic file development | 34 | 1 | 2 | 68
Total |  |  |  |  | 88

Dated: March 21, 2013.
Ron A. Otten,
Director, Office of Scientific Integrity (OSI), Office of the Associate Director for Science (OADS), Office of the Director, Centers for Disease Control and Prevention.

[FR Doc. 2013-07054 Filed 3-26-13; 8:45 am]

BILLING CODE 4163-18-P